NATIONAL AERONAUTICS AND SPACE ADMINISTRATION

[Notice 12-076]

NASA Advisory Council; Science Committee; Heliophysics Subcommittee; Meeting

AGENCY: National Aeronautics and Space Administration.

ACTION: Notice of meeting.

SUMMARY: In accordance with the Federal Advisory Committee Act, Public Law 92-463, as amended, the National Aeronautics and Space Administration (NASA) announces a meeting of the Heliophysics Subcommittee of the NASA Advisory Council (NAC). This Subcommittee reports to the Science Committee of the NAC. The meeting will be held for the purpose of soliciting, from the scientific community and other persons, scientific and technical information relevant to program planning.

DATES: Wednesday, October 10, 2012, 9:00 a.m. to 5:00 p.m., Thursday, October 11, 2012, 8:30 a.m. to 5:00 p.m., and Friday, October 12, 2012, 8:30 a.m. to 11:30 p.m., Local Time.

ADDRESSES: NASA Headquarters, 300 E Street SW., Rooms 6H45, 6H45, and 7H45 respectively, Washington, DC 20546.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

—Heliophysics Division Overview and Program Status

—Flight Mission Status Report

—Heliophysics Division Comments on National Research Council Decadal Strategy for Solar and Space Physics Report

—Heliophysics Roadmap for Science and Technology 2013-2033 Status

—NASA Launch Services Briefing

It is imperative that the meeting be held on these dates to accommodate the scheduling priorities of the key participants. Attendees will be requested to sign a register and to comply with NASA security requirements, including the presentation of a valid picture ID to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Marian Norris via email at mnorris@nasa.gov or by fax at (202) 358-4118. U.S. citizens and green card holders are requested to submit their name and affiliation 3 working days prior to the meeting to Marian Norris.

Patricia D. Rausch,
Advisory Committee Management Officer, National Aeronautics and Space Administration.

[FR Doc. 2012-23249 Filed 9-19-12; 8:45 am]

BILLING CODE 7510-13-P